DEPARTMENT OF THE INTERIOR

Bureau of Land Management

[16X.LLUT920000.L712200000.ER0000.LVTFJX496770.241A; AZA-34941]

Notice of Intent To Amend a Portion of the Arizona Strip Field Office Resource Management Plan Related to the Kanab Creek Area of Critical Environmental Concern, Arizona

AGENCY: Bureau of Land Management, Interior.

ACTION: Notice of intent.

SUMMARY: In compliance with the National Environmental Policy Act of 1969 (NEPA), as amended, and the Federal Land Policy and Management Act of 1976 (FLPMA), as amended, the Bureau of Land Management (BLM), Arizona Strip Field Office, St. George, Utah, intends to amend a portion of the Arizona Strip Field Office (ASFO) Resource Management Plan (RMP) related to the Kanab Creek Area of Critical Environmental Concern (ACEC). The BLM will incorporate the analysis for the RMP amendment into a Federal Energy Regulatory Commission (FERC) Environmental Impact Statement (EIS) for the Lake Powell Pipeline Project. FERC is the lead agency and the BLM is a cooperating agency. FERC's EIS will analyze the proposed Lake Powell Pipeline Project and the proposed RMP amendment to consider allowing development of the Lake Powell Pipeline within the Kanab Creek ACEC. By this notice the BLM is announcing the beginning of the scoping process to solicit public comments and identify issues pursuant to BLM's land use planning regulations.

DATES: This notice initiates the public scoping process for the RMP amendment with an associated EIS. Comments on issues may be submitted in writing until July 23, 2018. The date(s) and location(s) of any scoping meetings will be announced at least 15 days in advance through local media, newspapers, and the BLM website at: http://www.blm.gov/arizona. In order to be included in the analysis, all comments must be received prior to the close of the 30-day public scoping period or 15 days after the last public meeting, whichever is later. The BLM will provide additional opportunities for public participation as appropriate.

ADDRESSES: You may submit comments on issues and planning criteria related to the Kanab Creek ACEC RMP amendment by any of the following methods:

• Website: https://eplanning.blm.gov/epl-front-office/eplanning/nepa/nepa_register.do.

• Email: BLM_AZ_ASFO_comments@blm.gov.

• Fax: 435-688-3258.

• Mail: BLM, Arizona Strip Field Office, Attention: Lorraine Christian/Kanab Creek ACEC RMP Amendment, 345 East Riverside Drive, St. George, Utah 84790-6714.

Documents pertinent to this proposal may be examined at the Arizona Strip Field Office at the address above.

FOR FURTHER INFORMATION CONTACT: Lorraine Christian, BLM Arizona Strip Field Manager, telephone: 435-688-3200; email: lmchrist@blm.gov. Contact Ms. Christian to have your name added to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The planning area is located in Coconino and Mohave Counties, Arizona. Only a small portion (900 acres) of the Kanab Creek ACEC would be affected by the proposed Lake Powell Pipeline route, but an RMP amendment is required in order to address inconsistencies between the management direction in the current RMP, the proposed route for the pipeline, and an existing utility corridor designated under the Energy Policy Act of 2005.

Approximately 1 mile of the proposed pipeline would run within an existing utility corridor, designated by the BLM pursuant to Section 368 of the Energy Policy Act of 2005, which overlaps a portion of the ACEC. Approximately 0.5 mile of the proposed pipeline would run inside the ACEC, but outside the existing utility corridor; this pipeline route is proposed due to steep rugged terrain which could be avoided by routing the pipeline outside of the utility corridor. The ASFO RMP encourages new utility rights-of-way (ROW) to be located within the utility corridor to the greatest extent possible. However, the ASFO RMP also established ACECs as “avoidance areas” for new ROWs. The BLM proposes to amend the ASFO RMP to: (1) Resolve the conflict between the designated Section 368 utility corridor and the ACEC decisions; and (2) Determine whether to allow the proposed Lake Powell Pipeline outside of the utility corridor, and if so, change the visual resource management class for that portion of the ACEC from Class II (where changes to the landscape should be low) to either Class III or Class IV in order to be compatible with utility development.

The purpose of the public scoping process is to determine relevant issues that will influence the scope of the environmental analysis, including alternatives, and guide the planning process. Preliminary issues for the RMP amendment area have been identified by BLM personnel; Federal, State, and local agencies; and other stakeholders. These issues include: Cultural resources, specifically tribal resources and values; special status species; riparian habitat; visual resources; special designations (i.e., Kanab Creek ACEC); and lands and realty, specifically the existing designated utility corridor—Corridor No. 113-116. The analysis will also consider mitigation.

Preliminary planning criteria include: (1) The BLM will continue to manage the Kanab Creek ACEC in accordance with FLPMA and other applicable laws and regulations; (2) The BLM will continue to manage Utility Corridor No. 113-116 in accordance with FLPMA and other applicable laws and regulations; and (3) The amendment process will follow the FLPMA planning process.

You may submit comments on issues and planning criteria in writing to the BLM at any ASFO RMP amendment public-scoping meeting, or you may submit them to the BLM using one of the methods listed in the ADDRESSES section above. You should submit comments by the close of the 30-day scoping period or within 15 days after the last public meeting, whichever is later.

The BLM will coordinate the processes of fulfilling requirements of NEPA and Section 106 of the National Historic Preservation Act (54 U.S.C. 306108), as provided in 36 CFR 800.2(d)(3).

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personally identifying information—may be made publicly available at any time. While you can ask the BLM in your comment to withhold your personally-identifying information from public review, we cannot guarantee that we will be able to do so.

The minutes and list of attendees for each scoping meeting will be available to the public and open for 30 days after the meeting to any participant who wishes to clarify the views he or she expressed. The BLM will evaluate all identified issues, and will place them into one of three categories:

1. Issues to be resolved in the RMP amendment;

2. Issues to be resolved through policy or administrative action; or

3. Issues beyond the scope of this RMP amendment.

An explanation will be provided in FERC's Draft EIS as to why an issue was placed in category two or three. The public is also encouraged to help identify any issues that should be addressed in the RMP. The BLM will work collaboratively with interested parties to identify the management decisions that are best suited to local, regional, and national needs and concerns.

The BLM will use an interdisciplinary approach to develop the RMP amendment in order to consider the variety of resource issues and concerns identified, as well as to develop alternatives to the proposed RMP amendment. Specialists with expertise in the following disciplines will be involved in the planning process: Archaeology and cultural resources, tribal issues, wildlife, visual resources, lands, realty, and special area designations.

Authority: 40 CFR 1501.7 and 43 CFR 1610.2.

Lorraine M. Christian,
Arizona Strip Field Manager.

[FR Doc. 2018-13432 Filed 6-21-18; 8:45 am]

BILLING CODE 4310-32-P